SECURITIES AND EXCHANGE COMMISSION

[File No. 1-07953]

Issuer Delisting; Notice of Application To Withdraw From Listing and Registration; (Rio Algom Limited, Common Shares, No Par Value, and Associated Common Share Purchase Rights)

June 15, 2000.

Rio Algom Limited (“Company”) has filed an application with the Securities and Exchange Commission (“Commission”), pursuant to Section 12(d) of the Securities Exchange Act of 1934 (“Act”) ¹ and Rule 12d2-2(d) thereunder,² to withdraw its Common Shares, no par value, and associated Common Share Purchase Rights (referred to collectively herein as the “Securities”),³ from listing and registration on the American Stock Exchange LLC (“Amex”).

¹ 15 U.S.C. 87l(d).

² 17 CFR 240.12d2-2(d).

³ The Common Share Purchase Rights currently trade together with, and are evidenced by, the associated Common Shares.

The Company, which is based in Toronto, Ontario, and whose Securities are listed in Canada on the Toronto Stock Exchange, has effected a new listing for its Securities on the New York Stock Exchange (“NYSE”). Trading in the Securities on the NYSE commenced, and was concurrently suspended on the Amex, at the opening of business on June 8, 2000. The Company's Registration Statement on Form 8-A with respect to the NYSE listing became effective on June 1, 2000. The Company has obtained a listing of its Securities on the NYSE in hopes of, among other things, increasing the potential liquidity for its Common Shares.

On February 16, 2000, the Company's board of directors approved a resolution authorizing the withdrawal of the Securities from listing and registration on the Amex. The Amex has in turn advised the Company that its application for such withdrawal has been made in accordance with the rules of the Amex and that the Amex would not object to such withdrawal, pending its final approval by the Commission. In the light of the new listing of the Securities on the NYSE, the Amex has not required the Company to notify its shareholders of its intention to withdraw the Securities from listing and registration on the Amex.

The Company has stated that its application relates solely to the withdrawal of the Securities from listing and registration on the Amex and shall have no effect upon the Securities' continued listing and registration on the NYSE under Section 12(b) of the Act.⁴

⁴ 15 U.S.C. 78l(b).

Any interested person may, on or before July 7, 2000, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.20-3(a)(1).
Jonathan G. Katz,
Secretary.

[FR Doc. 00-15728 Filed 6-21-00; 8:45 am]

BILLING CODE 8010-01-M